INTERNATIONAL TRADE COMMISSION

[Investigation Nos. 731-TA-865-867 (Review)]

Certain Stainless Steel Butt-Weld Pipe Fittings From Italy, Malaysia, and the Philippines

Determinations

On the basis of the record ¹ developed in the subject five-year reviews, the United States International Trade Commission (Commission) determines, pursuant to section 751(c) of the Tariff Act of 1930 (19 U.S.C. 1675(c)) (the Act), that revocation of the antidumping duty orders on certain stainless steel butt-weld pipe fittings from Italy, Malaysia, and the Philippines would be likely to lead to continuation or recurrence of material injury to an industry in the United States within a reasonably foreseeable time.

¹ The record is defined in § 207.2(f) of the Commission's Rules of Practice and Procedure (19 CFR § 207.2(f)).

Background

The Commission instituted these reviews on January 3, 2006 (71 F.R. 140) and determined on April 10, 2006 that it would conduct full reviews (71 F.R. 20132, April 19, 2006). Notice of the scheduling of the Commission's reviews and of a public hearing to be held in connection therewith was given by posting copies of the notice in the Office of the Secretary, U.S. International Trade Commission, Washington, DC, and by publishing the notice in the Federal Register on May 30, 2006 (71 FR 30695). The hearing was held in Washington, DC, on September 14, 2006, however no persons requested the opportunity to appear in person or by counsel.

The Commission transmitted its determinations in these reviews to the Secretary of Commerce on November 17, 2006. The views of the Commission are contained in USITC Publication 3889 (November 2006), entitled Certain Stainless Steel Butt-weld Pipe Fittings from Italy, Malaysia, and the Philippines: Investigation Nos. 731-TA-865-867 (Review).

By order of the Commission.
Issued: November 17, 2006.
Marilyn R. Abbott,
Secretary to the Commission.

[FR Doc. E6-19870 Filed 11-22-06; 8:45 am]

BILLING CODE 7020-02-P